DEPARTMENT OF ENERGY

Federal Energy Regulatory Commission

[Docket No. EL00-95-091, et al.]

San Diego Gas & Electric Company, et al.; Electric Rate and Corporate Filings

December 22, 2003.

The following filings have been made with the Commission. The filings are listed in ascending order within each docket classification.

1. San Diego Gas & Electric Company v. Sellers of Energy and Ancillary Services Into Markets Operated by the California Independent System Operator Corporation and the California Power Exchange; Investigation of Practices of the California Independent System Operator and the California Power Exchange

[Docket Nos. EL00-95-091 and EL00-98-078]

Take notice that on December 15, 2003, the California Independent System Operator Corporation (ISO) submitted a filing to comply with the order issued in the captioned proceedings on November 14, 2003, 105 FERC ¶ 61,196. The ISO states that the compliance filing has been served on all parties to these proceedings.

Comment Date: January 14, 2004.

2. Pacific Northwest Generating Cooperative

[Docket No. ER97-504-009]

Take notice that on December 15, 2003, Pacific Northwest Generating Cooperative (PNGC) tendered for filing with the Federal Energy Regulatory Commission its updated market analysis and report on changes in status in accordance with the Commission's Order in Docket No. ER97-504-000, which authorized PNGC to sell power at market-based rates. PNGC states that it also seeks to implement the Commission's new Market Behavior Rules as part of its market-based rate authority, and reports that it does not provide information to publishers of price indices.

Comment Date: January 5, 2004.

3. Capital Center Generating Company, L.L.C.

[Docket No. ER99-3207-001]

Take notice that on December 15, 2003, Capital Center Generating Company, L.L.C., filed with the Federal Energy Regulatory Commission a notice of change in status in connection with the transfer by EI Providence LLC and ProvEnergy Power Company LLC of their respective membership interests in Capital Center Energy Company, LLC (the parent company of Capital Center Generating Company, L.L.C.) to Francis Street Energy, LLC.

Comment Date: January 5, 2004.

4. Garnet Energy LLC

[Docket No. ER02-1119-000, 001 and 002]

Take notice that on December 4, 2003, Garnet Energy LLC tendered for filing a Notice of Withdrawal of its application for limited market-based rate authority, pursuant to Rule 216 of the Commission's regulations, 18 CFR 385.216.

Comment Date: December 29, 2003.

5. Cross-Sound Cable Company, LLC

[Docket No. ER03-600-001]

Take notice that on December 15, 2003, Cross-Sound Cable Company, LLC (CSC LLC) filed revised procedures for customers to reassign their firm transmission rights over the Cross Sound Cable (CSC). CSC LLC states that the revised procedures are intended to replace the procedures filed on March 3, 2003 in this docket and would supercede the procedures for the reassignment of CSC transmission rights filed in Docket No. ER00-1-002 on July 3, 2000 in compliance with the Commission's June 1, 2000 Order, 91 FERC ¶ 61,230, approving negotiated rates for transmission service over the CSC. CSC LLC requests that the Commission allow the new reassignment procedures to become effective December 15, 2003.

CSC LLC states that a copy of this filing has been mailed to each person designated on the official service list compiled by the Secretary of the Commission in Docket No. ER03-600-000.

Comment Date: January 5, 2004.

6. New York Independent System Operator, Inc.

[Docket No. ER04-294-000]

Take notice that on December 12, 2003, the New York Independent System Operator, Inc. (NYISO), filed proposed revisions to the NYISO's Open Access Transmission Tariff (OATT) and Market Administration and Control Area Services Tariff (Services Tariff). NYISO states that the proposed filing would reduce the magnitude of congestion rent shortfalls. The NYISO has requested an effective date of February 2, 2004.

The NYISO states that it has served a copy of this filing to all parties that have executed Service Agreements under the NYISO's Open-Access Transmission Tariff or Services Tariff, the New York State Public Service Commission and to the electric utility regulatory agencies in New Jersey and Pennsylvania.

Comment Date: January 2, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Linda Mitry,
Acting Secretary.

[FR Doc. E3-00666 Filed 12-31-03; 8:45 am]

BILLING CODE 6717-01-P